DEPARTMENT OF TRANSPORTATION

Federal Aviation Administration

RTCA Special Committee 198: Next-Generation Air/Ground Communications System (NEXCOM)

AGENCY: Federal Aviation Administration (FAA), DOT.

ACTION: Notice of RTCA Special Committee 198 meeting.

SUMMARY: The FAA is issuing this notice to advise the public of a meeting of RTCA Special Committee 198: Next-Generation Air/Ground Communications System (NEXCOM).

DATES: The meeting will be held on January 23-25, 2002, starting at 9:00 am.

ADDRESSES: The meeting will be held at RTCA, 1828 L Street, Suite 805, Washington, DC, 20036.

FOR FURTHER INFORMATION CONTACT: RTCA Secretariat, 1828 L Street, NW., Suite 805, Washington, DC, 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 198 meeting. The agenda will include:

• January 23:

• Opening Plenary Session (Welcome and Introductory Remarks, Review Minutes of Previous Meeting)

• Review and Act on Comments received during the Final Review and Comment Period for the Document Next Generation Air/Ground Communications (NEXCOM) Principles of Operations VHF Digital Link (VDL) Mode 3

• Closing Plenary Session (Date and Place of Next Meeting)

• January 24-25:

• Working Group 3 Editorial and Final Changes to the VDL-3 Principles of Operation Document

• Working Group 4, NEXCOM Plan, US National Airspace System (NAS) Plan for Transition to Air/Ground ICAO VDL-3 based Integrated Voice and Data

• Working Group 5, NEXCOM Safety and Performance Requirements (SPR) Document

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 18, 2001.
Janice L. Peters,
FAA Special Assistant, RTCA Advisory Committee.

[FR Doc. 02-486 Filed 1-8-02; 8:45 am]

BILLING CODE 4910-13-M